ENVIRONMENTAL PROTECTION AGENCY

[OW-FRL-7161-5]

Beaches Environmental Assessment and Coastal Health Act

AGENCY: Environmental Protection Agency.

ACTION: Notice of availability of grants for development of coastal recreation water monitoring and public notification under the Beaches Environmental Assessment and Coastal Health Act.

SUMMARY: The Beaches Environmental Assessment and Coastal Health Act (BEACH Act) signed into law on October 10, 2000, amends the Clean Water Act (CWA) to reduce the risk of disease to users of the Nation's recreational waters. The BEACH Act authorizes the U.S. Environmental Protection Agency (EPA) to award program development and implementation grants to eligible States, Territories, Tribes, and local governments to support microbiological testing and monitoring of coastal recreation waters, including the Great Lakes, that are adjacent to beaches or similar points of access used by the public. BEACH Act grants also provide support for development and implementation of programs to notify the public of the potential exposure to disease-causing microorganisms in coastal recreation waters. EPA encourages coastal States and Territories to apply for BEACH Act Grants for Program Development (referred to as Development Grants) to develop effective and comprehensive coastal recreation water monitoring and public notification programs.

DATES: Submit your application on or before May 20, 2002.

ADDRESSES: You must send your application to the appropriate Regional Grant Coordinator listed in this document under SUPPLEMENTARY INFORMATION, section VII.

FOR FURTHER INFORMATION CONTACT: Charles Kovatch, 202-260-3754.

SUPPLEMENTARY INFORMATION:

I. Grant Program

What Is the Statutory Authority for the Development Grants?

The statutory authority for BEACH grants is section 406(b) of the CWA as amended by the BEACH Act, Public Law 106-284, 114 Stat. 970 (2000). It provides in part: “The Administrator may make grants to States and local governments to develop and implement programs for monitoring and notification for coastal recreation waters adjacent to beaches or similar points of access that are used by the public.”

What Activities Are Eligible for Funding Under the Development Grants in Fiscal Year 2002?

In Fiscal Year 2002, EPA intends to award grants authorized under the BEACH Act to support the continued development of coastal recreation water monitoring and public notification programs to meet program elements under the BEACH Act. EPA encourages grantees to use these funds to test various approaches for meeting BEACH Act program requirements. As required by the BEACH Act, EPA expects to publish performance criteria for implementation of coastal recreation water monitoring and public notification programs by April 2002. In fiscal year 2003 and beyond, if funds are appropriated to support these programs, EPA expects to make grants to also support implementation of monitoring and notification programs that are consistent with the statutory requirements for implementation grants, which include consistency with EPA's performance criteria.

II. Funding and Eligibility

Who Is Eligible To Apply for Development Grants Under this Federal Register Document?

Coastal and Great Lake States are eligible for development grants in FY 2002 to develop monitoring and notification programs. The term “State” is defined in section 502 of the CWA to include the District of Columbia, the Commonwealth of Puerto Rico, the Virgin Islands, Guam, American Samoa, the Commonwealth of the Northern Mariana Islands, and the Trust Territory of the Pacific Islands. However, the Trust Territory of the Pacific Islands no longer exists. The Marshall Islands, the Federated States of Micronesia, and Palau, which were previously entities within the Trust Territory of the Pacific Islands, have entered into Compacts of Free Association with the Government of the United States. As a result, each is now a sovereign, self-governing entity and, as such, is no longer eligible to receive grants as a Territory or possession of the United States.

Are Local Governments Eligible for Funding?

The BEACH Act authorizes EPA to make a grant to a local government for implementation of a monitoring and notification program only if, after the one-year period beginning on the date of publication of performance criteria, EPA determines that the State is not implementing a program that meets the requirements of section 406 of the Act. EPA expects to publish performance criteria in April 2002, and therefore expects April 2003 as the earliest date for local governments to be eligible for beach grants.

Are Tribal Governments Eligible for Funding?

Section 518(e) of the CWA authorizes EPA to treat eligible Indian Tribes in the same manner as States for the purpose of receiving CWA section 406 grant funding. In order to receive BEACH Act grant funds a Tribe must have coastal recreation waters for which water quality standards have been established under the CWA. There are currently no Tribes that have met this requirement. In addition, a Tribe must meet the “treatment in the same manner as a State” criteria under CWA section 518(e) to receive grant funds under section 406 of the CWA.

How Much Funding Is Available?

For Fiscal Year 2002, EPA expects to award approximately $10 million in Development Grants to eligible States and Territories.

How Will the Funding Be Allocated?

For this second year of the Development Grants, EPA expects to award grants to all eligible States and Territories who apply for funding based on an allocation formula. In developing this formula EPA consulted with various States, the Coastal States Organization, and Association of State and Interstate Water Pollution Control Administrators (ASIWPCA). This formula uses three factors that are readily available and verifiable: (1) Length of beach season, (2) miles of beach and (3) number of people that use the beaches.

(1) Beach Season Length

Beach season length was selected as a factor since it determines the part of the year that a government would conduct its monitoring program. The longer the beach season, the more resources that a government would need to conduct monitoring. EPA's information on the length of a beach season was obtained from the National Health Protection Survey of Beaches for the States or Territories that reported information. The beach season for American Samoa, Oregon, Puerto Rico, and Northern Mariana Islands was estimated based on season reported by nearby States and Territories. The beach season for Alaska was estimated based on air and water temperature, available information on recreation activities, and data from the 1993 National Water Based Recreation Survey. EPA grouped the States and U.S. Territories into four categories of beach season lengths:

For beaches in— | The beach season category is—
Alaska | < 3 months.
Connecticut, Delaware, Illinois, Indiana, Maine, Maryland, Massachusetts, Michigan, Minnesota, New Hampshire, New Jersey, New York, Ohio, Oregon, Pennsylvania, Rhode Island, Virginia, Washington, Wisconsin. | 3—4 months.
Alabama, Georgia, Louisiana, Mississippi, North Carolina, South Carolina | 5—6 months.
American Samoa, California, Florida, Guam, Hawaii, Northern Mariana, Puerto Rico, Texas, U.S. Virgin Islands | 9—12 months.

(2) Beach Miles

Miles of beach was selected as a factor because it determines the geographical extent over which a government would conduct monitoring. The longer the miles of beaches, the more resources a government would need to conduct monitoring. For this second year of Development Grants, EPA is using shoreline miles as a surrogate rather than beach miles because beach miles are not available for all beaches in the 35 eligible States and Territories. EPA discussed the drawbacks of using this surrogate factor with States on a conference call on December 11, 2001 BEACH Act grantees, however, must identify their beaches as a condition of their grants; therefore in future years, EPA will be able to measure and thus use beach miles rather than shoreline. Because the BEACH Act grants for 2001 were awarded only recently, States have yet to identify lists of coastal recreation waters in the State. Thus, as a practical matter, EPA could not use beach miles in the allocation formula for FY 2002 grants. Instead, for FY 2002 grants, EPA used the NOAA publication The Coastline of the United States to quantify the shoreline miles.

(3) Beach Use

Beach use was selected as a factor because it reflects the importance of beach-related tourism to the local economy. The greater use a beach receives, the more likely a government would need to conduct increased monitoring because of the larger number of people potentially exposed to pathogens. For this second year of Development Grants, EPA is using the coastal population of counties that are wholly or partially within the State's or Territory's legally defined coastal zone as a surrogate, rather than beach usage because information on beach visitors is not available for all beaches in the 35 eligible States and Territories. EPA also discussed the drawbacks of using this surrogate factor with States on a conference call on December 11, 2001. Participants on the call were doubtful that EPA could develop a consistent, verifiable approach for estimating beach use for all beaches, but could not suggest a better way to quantify this factor at present. EPA is committed to work with the States and Territories with BEACH Act grants to develop a better way to quantify this factor. EPA used the 1990 Census data to quantify coastal population because the 2000 data are not yet available for American Samoa, Guam, Northern Mariana Islands, and the U.S. Virgin Islands. EPA will update this factor when the 2000 census data are available for all eligible States and Territories.

The grants allocation formula consists of the sum of three parts. The first part provides a base amount for all States and Territories that varies with the length of the beach season. The second part distributes 50% of the total remaining funds ($10 million in FY 2002 less that used for the beach season length) based on the ratio of shoreline miles in a State or Territory to the total length of shoreline miles. For example, if a State has 4% of the total coastal and Great Lakes shoreline, that State would receive 2% (4% of 50%) of the total funds remaining after the funds for the beach season length are distributed. The third part distributes 50% of the total remaining funds ($10 million in FY 2002 less that used for the beach season length) based on the ratio of coastal population in a State or Territory to the total coastal population. For example, if a State has 2% of the total coastal and Great Lakes population, that State would receive 1% (2% of 50%) of the total funds remaining after the funds for the beach season length are distributed. The following table summarizes the allocation formula:

For the factor— | The part of the allocation is—
Beach season length | < 3 months: $150,000 (States and Territories with a season <3 months receive season-based funding only.)
| 3-4 months: $200,000
| 5-6 months: $250,000
| >6 months: $300,000
Shoreline miles | 50% of funds remaining after allocation of season-based funding.
Coastal population | 50% of funds remaining after allocation of season-based funding.

Based on this allocation formula, the amount of the each State or Territory's development grant award in FY 2002 is expected to be from $150,000 to $530,893 if all 35 eligible States and Territories apply. EPA anticipates that all 35 eligible governments will apply. If fewer than 35 States and Territories apply for the allocated amount, then EPA will re-allocate these grant funds to those States and Territories that applied for the grants using the same formula. If all 35 eligible States and Territories apply, the distribution of the $10 million in funds for year 2002 will be:

For the State or Territory of— | The year 2002 allocation is—
Alabama | $263,142
Alaska | 150,000
American Samoa | 302,288
California | 535,643
Connecticut | 226,389
Delaware | 211,339
Florida | 530,893
Georgia | 288,490
Guam | 302,775
Hawaii | 325,149
Illinois | 248,615
Indiana | 206,670
Louisiana | 383,287
Maine | 259,742
Maryland | 276,068
Massachusetts | 260,691
Michigan | 287,556
Minnesota | 204,631
Mississippi | 258,028
New Hampshire | 204,918
New Jersey | 285,719
New York | 366,030
North Carolina | 306,721
Northern Mariana | 303,462
Ohio | 227,879
Oregon | 230,342
Pennsylvania | 226,953
Puerto Rico | 335,862
Rhode Island | 214,225
South Carolina | 300,253
Texas | 387,957
U.S. Virgin Islands | 303,488
Virginia | 282,355
Washington | 274,034
Wisconsin | 228,396

What is the Expected Duration of the Funding and Project Periods?

The expected funding and project period for Development Grants awarded in FY2002 is one year.

Are Matching Funds Required?

Recipients are not required to provide matching funds for Development Grants awarded under authority of the BEACH Act at this time.

What if a State Cannot Use All of Its Allocation?

If a State or Territory cannot use all of its allocation, the Regional Administrator may award the unused funds to any eligible coastal or Great Lake grant recipient(s) in the Region for the development of their coastal recreation water monitoring and notification program. If after this re-allocation, there are still unused funds within the Region, EPA-Headquarters will award these funds to any eligible coastal or Great Lake grant recipient(s).

III. Grant Condition

Section 406(c) of the BEACH Act requires that as a condition of receipt of any BEACH Act grant, recipients identify the program elements listed below. Therefore, EPA will require recipients to address each of the following elements in their grant application and include the status of their efforts on each element in an annual performance report, as required under 40 CFR 31.40:

(1) Lists of coastal recreation waters in the State, including coastal recreation waters adjacent to beaches or similar points of access that are used by the public;

(2) In the case of a State program for monitoring and notification, the process by which the State may delegate to local governments responsibility for implementing the monitoring and notification program;

(3) The frequency and location of monitoring and assessment of coastal recreation waters based on: (A) the periods of recreational use of the waters; (B) the nature and extent of use during certain periods; (C) the proximity of the waters to known point sources and nonpoint sources of pollution; and (D) any effect of storm events on the waters;

(4)(A) the methods to be used for detecting levels of pathogens and pathogen indicators that are harmful to human health; and (B) the assessment procedures for identifying short-term increases in pathogens and pathogen indicators that are harmful to human health in coastal recreation waters (including increases in relation to storm events);

(5) Measures for prompt communication of the occurrence, nature, location, pollutants involved, and extent of any exceeding of, or likelihood of exceeding, applicable water quality standards for pathogens and pathogen indicators to EPA and a designated official of the local government having jurisdiction over land adjoining the coastal recreation waters for which the failure to meet applicable standards is identified; EPA has determined that this information may be submitted to the Agency in any form so long as it includes the required information;

(6) Measures for the posting of signs at beaches or similar points of access, or functionally equivalent communication measures that are sufficient to give notice to the public that the coastal recreation waters are not meeting or are not expected to meet applicable water quality standards for pathogens and pathogen indicators; and

(7) Measures that inform the public of the potential risks associated with water contact activities in the coastal recreation waters that do not meet applicable water quality standards.

IV. Additional Eligible Activities

Recipients may use funds for activities in support of developing a beach monitoring and notification program, including:

(1) Activities to comply with the grant conditions specified in section III above;

(2) Quality assurance and quality control (QA/QC) procedures consistent with the requirements under 40 CFR 31.45; to develop and implement QA/QC practices for environmentally related measurements or data generation sufficient to produce data of quality adequate to meet project objectives and to minimize loss of data due to out-of-control conditions or malfunctions; and

(3) Data quality objectives (DQOs), quality assurance project plan (QAPP) and standard operating procedures (SOPs) that clarify study objectives, define the appropriate type of data, and specify tolerable levels of potential decision errors that will be used as the basis for establishing the quality and quantity of data needed to support decisions.

V. Selection Process

What Criteria Will Be Used to Evaluate Applications and Award Development Grants?

Development Grants will be awarded through a non-competitive process by the EPA Regional offices. EPA expects to award grants to all eligible State and Territory applicants that meet requirements of the BEACH Act as described in this document.

Who Has The Authority to Award Development Grants?

The Administrator has delegated the authority to award Development Grants to the Regional Administrators.

VI. Application Procedure

What Is the Catalog of Federal Domestic Assistance (CFDA) Number for the BEACH Program Development Grant?

The number assigned to the Development Grants is 66.472, Program Code CU.

Can BEACH Act Grant Funds Be Included in a Performance Partnership Grant?

For Fiscal Year 2002, Development Grants cannot be included in a Performance Partnership Grant.

What Are The Components of the Application Package?

The application package should contain completed EPA SF-424 Application for Federal Assistance and be submitted to the appropriate EPA Regional Office by May 20, 2002. Please contact the appropriate EPA Regional Office for a complete application package. See Section VII for a list of EPA Regional Grant Coordinators or visit the EPA Beach Watch Website at www.epa.gov/ost/beaches on the Internet.

Will Quality Assurance and Quality Control (QA/QC) and Other Procedures Be Required for Application?

No. A QA/QC plan is not required for the application, however under 40 CFR 31.45 a QA/QC plan is required for any environmentally related measurements or data generation (e.g. monitoring) performed under the grant. (See section IV of this document).

Will There Be Reporting Requirements?

Recipients must submit annual performance reports and financial reports as required in §§ 31.40 and 31.41.

What Regulations and OMB Cost Circular Will Apply to the Award and Administration of These Grants?

The regulations at 40 CFR part 31 will govern the award and administration of grants to States and Territories under section 406 of the BEACH Act. Allowable costs will be determined in accordance with the cost principles in OMB Cost Circular A-87.

VII. Grant Coordinators

Headquarters—Washington, DC

Charles Kovatch USEPA, 1200 Pennsylvania Ave. NW—4305, Washington DC 20460; T:202-260-3754; F: 202-260-9830; kovatch.charles@epa.gov.

Region I—Connecticut, Maine, Massachusetts, New Hampshire, Rhode Island

Matt Liebman USEPA Region I, One Congress St. Ste. 1100—CWQ, Boston, MA 02114-2023; T:617-918-1626; F: 617-918-1505; liebman.matt@epa.gov.

Region II—New Jersey, New York, Puerto Rico, U.S. Virgin Islands

Helen Grebe USEPA Region II, 2890 Woodbridge Ave. MS220, Edison, NJ 08837-3679; T: 732-321-6797; F: 732-321-6616; grebe.helen@epa.gov.

Region III—Delaware, Maryland, Pennsylvania, Virginia

Nancy Grundahl USEPA Region III, 1650 Arch Street 3ES10, Philadelphia, PA 19103-2029; T: 215-814-2729; F:215-814-2782; grundahl.nancy@epa.gov.

Region IV—Alabama, Florida, Georgia, Mississippi, North Carolina, South Carolina

Joel Hansel USEPA Region IV, 61 Forsyth St. 15th Floor, Atlanta, GA 30303-3415; T: 404-562-9274; F: 404-562-9224; hansel.joel@epa.gov.

Region V—Illinois, Indiana, Michigan, Minnesota, Ohio, Wisconsin

Holly Wirick USEPA Region V, 77 West Jackson Blvd. WT-16J, Chicago, IL 60604-3507; T: 312-353-6704; F: 312-886-0168; wirick.holiday@epa.gov.

Region VI—Louisiana, Texas

Mike Schaub USEPA Region VI, 1445 Ross Ave. 6WQ-EW, Dallas, TX 75202-2733; T: 214-665-7314; F: 214-665-6689; schaub.mike@epa.gov.

Region IX—American Soma, Commonwealth of the Northern Mariana Islands, California, Guam, Hawaii

Terry Fleming USEPA Region IX, 75 Hawthorne St. WTR-2, San Francisco, CA 94105; T: 415-744-1939; F: 415-744-1078; fleming.terrence@epa.gov.

Region X—Alaska, Oregon, Washington

Rob Pedersen USEPA Region X, 120 Sixth Ave. OW-134, Seattle, WA 98101; T: 206-553-1646; F: 206-553-0165; pedersen.rob@epa.gov.

Dated: February 25, 2002.
Diane C. Regas,
Acting Assistant Administrator, Office of Water.

[FR Doc. 02-6850 Filed 3-20-02; 8:45 am]

BILLING CODE 6560-50-P